INTERNATIONAL TRADE COMMISSION

[USITC SE-05-027]

Government in the Sunshine Act Meeting Notice

Agency Holding the Meeting: United States International Trade Commission.

Time and Date: August 11, 2005, at 11 a.m.

Place: Room 101, 500 E Street, SW., Washington, DC 20436. Telephone: (202) 205-2000.

Status: Open to the public.

Matters to be Considered: 1. Agenda for future meetings: None.

2. Minutes.

3. Ratification List.

4. Inv. No. 731-TA-1094 (Preliminary) (Metal Calendar Slides from Japan)—briefing and vote. (The Commission is currently scheduled to transmit its determination to the Secretary of Commerce on or before August 15, 2005; Commissioners' opinions are currently scheduled to be transmitted to the Secretary of Commerce on or before August 22, 2005.)

5. Inv. Nos. 104-TAA-7 and AA1921-198-200 (Second Review) (Sugar from the European Union; Sugar from Belgium, France, and Germany)—briefing and vote. (The Commission is currently scheduled to transmit its determination and Commissioners' opinions to the Secretary of Commerce on or before August 29, 2005.)

6. Outstanding action jackets: None.

In accordance with Commission policy, subject matter listed above, not disposed of at the scheduled meeting, may be carried over to the agenda of the following meeting.

By order of the Commission.
Issued: July 12, 2005.
Marilyn R. Abbott,
Secretary to the Commission.

[FR Doc. 05-13939 Filed 7-12-05; 10:36 am]

BILLING CODE 7020-02-P